DEPARTMENT OF TRANSPORTATION

Federal Aviation Administration

[Docket No. FAA-2025-0562]

Agency Information Collection Activities: Request for Comments; Clearance of a New Approval of Information Collection: Pilot Medical Disclosure Decision Making Model for Safety Risk Assessment Survey

AGENCY: Federal Aviation Administration (FAA), DOT.

ACTION: Notice and request for comments.

SUMMARY: In accordance with the Paperwork Reduction Act of 1995, FAA invites public comments about our intention to request the Office of Management and Budget (OMB) approval for a new information collection. The collection involves a short online survey gathering information on medical disclosure behaviors of working pilots. The information to be collected will be used to and/or is necessary to update the current safety risk assessments for integration into the Aviation Safety (AVS), Office of Aviation Medicine (AAM) Safety Risk Management process.

DATES: Written comments should be submitted by August 4, 2025. This process is conducted in accordance with 5 CFR 1320.1.

ADDRESSES: Please send written comments:

By Electronic Docket: www.regulations.gov (Enter docket number into search field).

By Mail: CAMI Bldg. 13, 6500 South MacArthur Blvd., Oklahoma City, OK 73169, Attention: Tammy Ho.

FOR FURTHER INFORMATION CONTACT: Tammy Ho by email at tammy.t.ho@faa.gov or by phone at (405) 954-0334.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-XXXX.

Title: Requests for Comments; Clearance of a New Approval of Information Collection: Pilot Medical Disclosure Decision Making Model for Safety Risk Assessment Survey.

Form Numbers: NA.

Type of Review: Clearance of new information collection.

Background: The Office of Aerospace Medicine (AVS/AAM) is developing a pilot medical disclosure decision making model in to support current and future safety risk assessments. Following the Mental Health Aviation Rulemaking Committee's recommendation, AVS/AAM and the Office of Safety Standards (AFS) conducted a joint safety risk assessment on pilot medical non-disclosure. The assessment identified the need for a validated model of pilot medical disclosure decision-making to better estimate safety risks.

The survey will consist of approximately 50 questions pertaining to the behavioral and decisions motivation behind medical disclosure. The survey's anticipated completion time is 10-25 minutes. The findings will lead to a final report with a peer-reviewed manuscript submission to a targeted journal.

Respondents: Career Pilots; Part 121 pilots.

Frequency: One-time response.

Estimated Average Burden per Response: 10-25 minutes.

Estimated Total Annual Burden: 10-25 minutes.

Tammy Ho,
Psychology Technician, NAS Human Factors Safety Research Laboratory (AAM-520), Aerospace Human Factors Research Division, Civil Aerospace Medical Institute.

[FR Doc. 2025-10481 Filed 6-9-25; 8:45 am]

BILLING CODE 4910-13-P